CONSUMER PRODUCT SAFETY COMMISSION

[Docket No. CPSC-2012-0058]

Agency Information Collection Activities; Proposed Collection; Comment Request; Safety Standard for Walk-Behind Power Lawn Mowers

AGENCY: Consumer Product Safety Commission.

ACTION: Notice.

SUMMARY: As required by the Paperwork Reduction Act of 1995, the Consumer Product Safety Commission (CPSC) requests comments on a proposed extension of approval of a collection of information relating to testing and recordkeeping requirements in the Safety Standard for Walk-Behind Power Lawn Mowers, approved previously under OMB Control No. 3041-0091. The CPSC will consider all comments received in response to this notice before requesting an extension of this collection of information from the Office of Management and Budget (OMB).

DATES: Submit written or electronic comments on the collection of information by May 13, 2019.

ADDRESSES: You may submit comments, identified by Docket No. CPSC-2012-0058, by any of the following methods:

Electronic Submissions: Submit electronic comments to the Federal eRulemaking Portal at: http://www.regulations.gov. Follow the instructions for submitting comments. The CPSC does not accept comments submitted by electronic mail (email), except through www.regulations.gov. The CPSC encourages you to submit electronic comments by using the Federal eRulemaking Portal, as described above.

Written Submissions: Submit written submissions by mail/hand delivery/courier to: Division of the Secretariat, Consumer Product Safety Commission, Room 820, 4330 East-West Highway, Bethesda, MD 20814; telephone (301) 504-7923.

Instructions: All submissions received must include the agency name and docket number for this notice. All comments received may be posted without change, including any personal identifiers, contact information, or other personal information provided, to: http://www.regulations.gov. Do not submit confidential business information, trade secret information, or other sensitive or protected information that you do not want to be available to the public. If furnished at all, such information should be submitted in writing.

Docket: For access to the docket to read background documents or comments received, go to: http://www.regulations.gov, and insert the docket number CPSC-2012-0058, into the “Search” box, and follow the prompts.

FOR FURTHER INFORMATION CONTACT: Bretford Griffin, Consumer Product Safety Commission, 4330 East-West Highway, Bethesda, MD 20814; (301) 504-7037, or by email to: bgriffin@cpsc.gov.

SUPPLEMENTARY INFORMATION: CPSC seeks to renew the following currently approved collection of information:

Title: Safety Standard for Walk-Behind Power Lawn Mowers.

OMB Number: 3041-0091.

Type of Review: Renewal of collection.

Frequency of Response: On occasion.

Affected Public: Manufacturers and importers of walk-behind power lawn mowers.

Estimated Number of Respondents: Approximately 25 manufacturers and importers of walk-behind power lawn mowers.

Estimated Time per Response: Walk-behind power lawn mowers are manufactured seasonally to meet demand. They are manufactured during an estimated 130 days out of the year. When they are manufactured, firms are required to test and maintain records of those tests. Staff estimates three hours daily for testing and recordkeeping per firm totaling 390 hours per firm (3 hours × 130 days). In addition, to produce labels and apply labels on the newly manufactured lawn mowers, staff estimates one hour daily for each firm during the production cycle for a total of 130 hours per firm (1 hour × 130 days).

Total Estimated Annual Burden: 9,750 hours on testing and recordkeeping (25 firms × 390 hours) and 3,250 hours for labeling (25 firms × 130 hours). Aggregate annual burden hours related to testing, recordkeeping, and labeling are estimated to be 520 hours per firm and 13,000 hours for the industry.

General Description of Collection: In 1979, the Commission issued the Safety Standard for Walk-Behind Power Lawn Mowers (16 CFR part 1205) to address blade contact injuries. Subpart B of the standard sets forth regulations prescribing requirements for a reasonable testing program to support certificates of compliance with the standard for walk-behind power lawn mowers. 16 CFR part 1205, subpart B.

In addition, section 14(a) of the CPSA (15 U.S.C. 2063(a)) requires manufacturers, importers, and private labelers of a consumer product subject to a consumer product safety standard to issue a certificate stating that the product complies with all applicable consumer product safety standards. Section 14(a) of the CPSA also requires that the certificate of compliance must be based on a test of each product or upon a reasonable testing program. The information collection is necessary because these regulations require manufacturers and importers to establish and maintain records to demonstrate compliance with the requirements for testing and labeling to support the certification of compliance.

Request for Comments

The CPSC solicits written comments from all interested persons about the proposed collection of information. The CPSC specifically solicits information relevant to the following topics:

—Whether the collection of information described above is necessary for the proper performance of the CPSC's functions, including whether the information would have practical utility;

—Whether the estimated burden of the proposed collection of information is accurate;

—Whether the quality, utility, and clarity of the information to be collected could be enhanced; and

—Whether the burden imposed by the collection of information could be minimized by use of automated, electronic or other technological collection techniques, or other forms of information technology.

Alberta E. Mills,
Secretary, Consumer Product Safety Commission.

[FR Doc. 2019-04686 Filed 3-13-19; 8:45 am]

BILLING CODE 6355-01-P